DEPARTMENT OF COMMERCE

Patent and Trademark Office

Agency Information Collection Activities; Submission to the Office of Management and Budget for Review and Approval; Comment Request; Patents for Humanity Program and Trademarks for Humanity Program

AGENCY: United States Patent and Trademark Office, Department of Commerce.

ACTION: Notice of information collection; request for comments.

SUMMARY: The United States Patent and Trademark Office (USPTO) will submit the following information collection request to the Office of Management and Budget (OMB) for review and clearance in accordance with the Paperwork Reduction Act of 1995, on or after the date of publication of this notice. The USPTO invites comments on the information collection renewal of 0651-0066 (Patents for Humanity Program and Trademarks for Humanity Program), which helps the USPTO assess the impact of its information collection requirements and minimize the reporting burden on the public. Public comments were previously requested via the Federal Register on October 25, 2024, during a 60-day comment period (89 FR 85171). This notice allows for an additional 30 days for public comments.

DATES: To ensure consideration, you must submit comments regarding this information collection on or before May 12, 2025.

ADDRESSES: Written comments and recommendations for this information collection should be submitted within 30 days of the publication of this notice on the following website, https://www.reginfo.gov/public/do/PRAMain. Find this particular information collection by selecting “Currently under 30-day Review—Open for Public Comments” or by using the search function and entering either the title of the information collection or the OMB Control Number, 0651-0066. Do not submit Confidential Business Information or otherwise sensitive or protected information.

FOR FURTHER INFORMATION CONTACT: This information collection request may be viewed at https://www.reginfo.gov/public/do/PRAMain. Follow the instructions to view the Department of Commerce, USPTO information collections currently under review by OMB.

• Email: InformationCollection@uspto.gov. Include “0651-0066 information request” in the subject line of the message.

• Mail: Justin Isaac, Office of the Chief Administrative Officer, United States Patent and Trademark Office, P.O. Box 1450, Alexandria, VA 22313-1450.

• Telephone: Soma Saha, Patent Attorney, 571-272-9300.

SUPPLEMENTARY INFORMATION:

Title: Patents for Humanity Program and Trademarks for Humanity Program.

OMB Control Number: 0651-0066.

Abstract: Since 2012, the United States Patent and Trademark Office (USPTO) has conducted the Patents for Humanity Program,¹ a biennial award program to incentivize the distribution of patented technologies or products for the purpose of addressing humanitarian needs. The program is open to any U.S. patent owners, patent applicants, or patent licensees or licensors. The USPTO collects information from applicants that describe what actions they have taken with their technology to address the world's most pressing humanitarian problems. There are numerous categories of awards including: medicine, nutrition, sanitation, household energy, and living standards. Sometimes the program includes additional categories specific for that year.

¹ Patents for Humanity web page: www.uspto.gov/ip-policy/patent-policy/patents-humanity.

The Patents for Humanity Program provides winners with recognition and an acceleration certificate for one future patent matter. The applications that are chosen for an award will receive a certificate redeemable to accelerate select matters before the USPTO. The certificates can be redeemed to accelerate one of the following matters:

• an ex parte reexamination proceeding, including one appeal to the Patent Trial and Appeal Board (PTAB) from that proceeding;

• a patent application, including one appeal to the PTAB from that application;

• or an appeal to the PTAB of a claim twice rejected in a patent application or reissue application or finally rejected in an ex parte reexamination, without accelerating the underlying matter which generated the appeal.

The Patents for Humanity Act of 2022 codified the Patents for Humanity program to be a permanent program at the USPTO that will run biennially. Finally, due to the January 2021 passage of the Patents for Humanity Program Improvement Act, winners of the Patents for Humanity Program are now able to transfer their certificates to third parties, including by sale.

In 2023, the USPTO added the Trademarks for Humanity Program ² to promote and incentivize brand owners who offer products and services that help address humanitarian issues utilizing a federally registered trademark. Applicants are required to describe how their mark and their goods or services satisfy the program criteria to address humanitarian issues. The Trademarks for Humanity Program is held occasionally, with no set frequency, and can have a variety of topics depending upon the year. Trademarks for Humanity awards focus on recognition and do not confer awards certificates like the Patents for Humanity Program.

² Trademarks for Humanity web page: www.uspto.gov/ip-policy/trademark-policy/trademarks-humanity.

Applications may be submitted via an online portal, accessible from the Patents for Humanity and Trademarks for Humanity main web pages. Applicants for both programs must provide contact information for the USPTO to notify them regarding their award status. A panel of independent judges evaluate the applications and send the top-scoring ones to reviewers from participating federal agencies to recommend award recipients. Awards are public and recipients receive recognition for their humanitarian efforts from the USPTO and executive branch leadership. Winners of both the Patents for Humanity Program and the Trademarks for Humanity Program are invited to participate in an awards ceremony.

This information collection covers the two application forms for the Patents for Humanity Program and the single application form for the Trademarks for Humanity Program. This information collection also covers the information gathered in the Patents for Humanity certification and request to redeem an acceleration certificate, the petition to extend an acceleration certificate redemption beyond 12 months, as well as the transfer of an award certificate.

To account for the recent addition of the Trademarks for Humanity Program, the name of this information collection has been changed from “Patents for Humanity Program” to “Patents for Humanity Program and Trademarks for Humanity Program.” Also, the frequency of the Trademarks for Humanity program has been adjusted from biennially to `on occasion.' Additionally, the form PTO/SB/431, “Petition to Extend the Redemption Period of a Patents for Humanity Program Acceleration Certificate,” was mislabeled as PTO/PFH/003 in the 60-day notice.

Forms: (PFH = Patents for Humanity; TFH = Trademarks for Humanity; SB = Specimen Book)

• PTO/PFH/001 (Humanitarian Use Application)

• PTO/PFH/002 (Humanitarian Research Use Application)

• PTO/TFH/001 (Trademarks for Humanity Application)

• PTO/SB/430 (Certification and Request to Redeem an Acceleration Certificate Under the Patents for Humanity Program)

• PTO/SB/431 (Petition to Extend the Redemption Period of a Patents for Humanity Program Acceleration Certificate)

• PTO/SB/466 (Transfer of Acceleration Certificate Under the Patents for Humanity Program)

Type of Review: Extension and revision of a currently approved information collection.

Affected Public: Private sector.

Respondent's Obligation: Required to obtain or retain benefits.

Frequency: Biennially, on occasion.

Estimated Number of Annual Respondents: 82 respondents.

Estimated Number of Annual Responses: 82 responses.

Estimated Time per Response: The USPTO estimates that the responses in this information collection will take the public approximately 30 minutes (0.50 hours) to 4 hours to complete. This includes the time to gather the necessary information, create the document, and submit the completed item to the USPTO.

Estimated Total Annual Respondent Burden Hours: 322 hours.

Estimated Total Annual Respondent Non-hourly Cost Burden: $0.

Justin Isaac,
Information Collections Officer, Office of the Chief Administrative Officer, United States Patent and Trademark Office.

[FR Doc. 2025-06166 Filed 4-10-25; 8:45 am]

BILLING CODE 3510-16-P